SMALL BUSINESS ADMINISTRATION

[Declaration of Disaster #3273]

State of Missouri

Greene County and the contiguous counties of Christian, Dade, Dallas, Lawrence, Polk, and Webster in the State of Missouri constitute a disaster area as a result of damages caused by heavy rain and flash flooding that occurred on July 12, 2000. Applications for loans for physical damage as a result of this disaster may be filed until the close of business on September 18, 2000, and for economic injury until the close of business on April 19, 2001 at the address listed below or other locally announced locations: U.S. Small Business Administration, Disaster Area 3 Office, 4400 Amon Carter Blvd., Suite 102, Ft. Worth, TX 76155

The interest rates are:

| Percent
For Physical Damage:
Homeowners With Credit Available Elsewhere | 7.375
Homeowners Without Credit Available Elsewhere | 3.687
Businesses With Credit Available Elsewhere | 8.000
Businesses and Non-Profit Organizations Without Credit Available Elsewhere | 4.000
Others (Including Non-Profit Organizations) With Credit Available Elsewhere | 6.750
For Economic Injury:
Businesses and Small Agricultural Cooperatives Without Credit Available Elsewhere | 4.000

The numbers assigned to this disaster are 327306 for physical damage and 9H8700 for economic injury.

(Catalog of Federal Domestic Assistance Program Nos. 59002 and 59008).

Dated: July 19, 2000.
Aida Alvarez,
Administrator.

[FR Doc. 00-18978 Filed 7-26-00; 8:45 am]

BILLING CODE 8025-01-U